DEPARTMENT OF COMMERCE

International Trade Administration

[A-533-813]

Certain Preserved Mushrooms from India: Partial Rescission of Antidumping Duty Administrative Review; 2014-2015

AGENCY: Enforcement and Compliance, International Trade Administration, Department of Commerce.

SUMMARY: The Department of Commerce (the Department) is partially rescinding its administrative review of the antidumping duty order on certain preserved mushrooms (mushrooms) from India for the period February 1, 2014, through January 31, 2015 (POR).

DATES: Effective Date: July 21, 2015.

FOR FURTHER INFORMATION CONTACT: Kate Johnson or Terre Keaton Stefanova, Enforcement and Compliance, International Trade Administration, U.S. Department of Commerce, 14th Street and Constitution Avenue NW., Washington, DC 20230; telephone: (202) 482-4929 or (202) 482-1280, respectively.

SUPPLEMENTARY INFORMATION:

Background

On February 2, 2015, the Department published in the Federal Register a notice of “Opportunity to Request Administrative Review” of the antidumping duty order on mushrooms from India for the POR.¹

¹ See Antidumping or Countervailing Duty Order, Finding, or Suspended Investigation; Opportunity to Request Administrative Review, 80 FR 5509 (February 2, 2015).

On March 2, 2015, in accordance with section 751(a) of the Tariff Act of 1930, as amended (the Act), and 19 CFR 351.213(b), the Department received timely requests from Monterey Mushrooms Inc. (the petitioner), and Sunny Dell Foods Inc. (Sunny Dell), a domestic interested party, to conduct an administrative review of the sales of Agro Dutch Industries Limited (Agro Dutch), Himalya International Ltd. (Himalya), Hindustan Lever Ltd. (formerly Ponds India, Ltd.) (Hindustan), Transchem Ltd. (Transchem), and Weikfield Foods Pvt. Ltd (Weikfield).²

² See March 2, 2015, letters from the petitioner and Sunny Dell regarding request for administrative review.

On April 3, 2015, the Department published in the Federal Register a notice of initiation of an administrative review of the antidumping duty order on mushrooms from India with respect to the above-named companies.³

³ See Initiation of Antidumping and Countervailing Duty Administrative Reviews, 80 FR 18202 (April 3, 2015).

On May 1, 2015, we received a no shipment claim for the POR from Weikfield.⁴

⁴ See Letter from Weikfield to the Department, dated April 30, 2015.

On July 2, 2015, the petitioner and Sunny Dell timely withdrew their request for a review of Agro Dutch, Hindustan, Transchem, and Weikfield.⁵

⁵ See July 2, 2015, letters from the petitioner and Sunny Dell regarding withdrawal of request for review.

Partial Rescission of Review

Pursuant to 19 CFR 351.213(d)(1), the Department will rescind an administrative review, in whole or in part, if the parties that requested a review withdraw the request within 90 days of the date of publication of notice of initiation of the requested review. The petitioner's and Sunny Dell's withdrawal requests were filed before the 90-day deadline. Therefore, in response to the withdrawals of request for review of Agro Dutch, Hindustan, Transchem and Weikfield, and pursuant to 19 CFR 351.213(d)(1), we are rescinding this review with regard to these companies. However, because the petitioner and Sunny Dell did not withdraw their requests for review of Himalya, the instant review will continue with respect to this company.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: July 15, 2015.
Christian Marsh,
Deputy Assistant Secretary for Antidumping and Countervailing Duty Operations.

[FR Doc. 2015-17839 Filed 7-20-15; 8:45 am]

BILLING CODE 3510-DS-P